DEPARTMENT OF TRANSPORTATION

Federal Aviation Administration

Philadelphia International Airport, Capacity Enhancement Program, Environmental Impact Statement, Announcement of a Preferred Alternative

AGENCY: Federal Aviation Administration (FAA) DOT.

ACTION: Announcement.

SUMMARY: The FAA has identified Alternative A as the Preferred Alternative for the Philadelphia International Airport, Capacity Enhancement Program, Environmental Impact Statement.

DATES: Effective upon publication in the Federal Register.

FOR FURTHER INFORMATION CONTACT: Susan L. McDonald, Environmental Protection Specialist, Federal Aviation Administration, Harrisburg Airports District Office, 3905 Hartzdale Drive, Suite 508, Harrisburg, PA 17011.

SUPPLEMENTARY INFORMATION: In accordance with the National Environmental Policy Act, the Federal Aviation Administration is in the process of completing an Environmental Impact Statement (EIS) for the Philadelphia International Airport (PHL) Capacity Enhancement Program (CEP). The purpose of the CEP is to enhance airport capacity in order to accommodate current and future aviation demand in the Philadelphia Metropolitan Area during all weather conditions. The Draft EIS was published on September 26, 2008. The DEIS presented three alternatives; the No Action and two on-airport construction alternatives (Alternatives A and B), but did not identify a Preferred Alternative. FAA has now identified Alternative A as its Preferred Alternative.

Alternative A would extend Runway 8-26 to the east, extend Runway 9R-27L to the east, and add a third parallel east-west runway. Alternative A would also reconstruct and enlarge the terminal complex, increasing it from 120 to approximately 150 gates. Alternative A will accommodate all forecasted operations with annualized average delays of 5.2 minutes in 2020 and 8.4 minutes in 2025. Alternative A is estimated to cost $5.2 billion.

Alternative A is FAA Preferred Alternative for the following reasons:

1. Alternative A meets the Purpose and Need by adding capacity and significantly reducing delay in all weather conditions in the long term.

2. Alternative A allows for greater flexibility of construction phasing or scheduling.

3. Alternative A maintains a crosswind runway (Runway 17-35).

4. Alternative A minimizes disruption of local surface transportation, and does not result in construction impacts to Interstate 95.

5. On the average, Alternative A has less average annualized delays during the prolonged construction period.

6. With mitigation, significant environmental impacts can be avoided or minimized.

A Draft General Conformity Determination, based on FAA's Preferred Alternative, is expected to be released for public comment April 27, 2010. The Final EIS is expected to be released late August 2010. The Final EIS will address all comments received on the Draft EIS and provides the rationale behind FAA's selection of Alternative A as the Preferred Alternative. Further information on the project and the EIS process can be found at the project Web site: http://www.phl-cep-eis.com.

Issued in Camp Hill, Pennsylvania, April 16, 2010.
Oscar D. Sanchez,
Acting Manager, Harrisburg Airports District Office.

[FR Doc. 2010-9608 Filed 4-21-10; 4:15 pm]

BILLING CODE 4910-13-P